DEPARTMENT OF ENERGY

Federal Energy Regulatory Commission

[Docket No. CP02-4-005]

Northwest Pipeline Corporation; Notice of Amendment

July 24, 2003.

Take notice that on July 14, 2003, Northwest Pipeline Corporation (Northwest), 295 Chipeta Way, Salt Lake City, Utah, 84158, filed in Docket No. CP02-4-005, an application, pursuant to section 7(c) of the Natural Gas Act and part 157 of the Federal Energy Regulatory Commission's regulations to amend the certificate of public convenience and necessity issued June 27, 2002, in Docket Nos. CP02-4-000 and -001, as amended May 7, 2003, in Docket No. CP02-002, for Northwest's Evergreen Expansion project. This application is on file with the Commission and open to public inspection. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

By this application, Northwest requests the Commission to approve the following changes to the previously certificated scope of work for the Evergreen Expansion project: (1) The elimination two of the three originally certificated sound walls at the Sumas Compressor Station in Whatcom County, Washington; (2) the elimination of the originally certificated installation of smaller replacement pistons on one of the two Clark TCV-12 reciprocating compressor units at the Sumas Compressor Station “B” plant; (3) the installation of a check valve and control system modifications to partially automate the operation of the two Clark TCV-12 units at the Sumas Compressor Station “B” plant in series mode; and (4) the elimination of the originally certificated valve assemblies for potential future tie-ins of the new Auburn and Covington loop pipelines, located in Pierce and King Counties, Washington to the South Seattle and North Tacoma Laterals.

Northwest states that it has installed one sound wall and has determined that noise levels for the Sumas Compressor Station will comply with applicable standards without installation of the other two certificated sound walls. Northwest also states that it has installed smaller pistons in one compressor and has determined that foregoing such installation in the other compressor will maximize operational flexibility. Additionally, Northwest states that the installation of facilities to allow the compressor units to run in series mode will also enhance operational flexibility. Further, Northwest states that it has determined that, since the South Seattle and North Tacoma laterals are already connected to Northwest's mainline facilities, the certificated tie-in facilities are not required. Finally, Northwest states that the proposed modifications will not alter the certificated capacity for the Evergreen Expansion Project, and that elimination of the installation of the potential tie-in facilities will eliminate approximately $100,000 of costs that otherwise would be rolled-in, while, for the Sumas Compressor Station, the costs of proposed new control facilities will be offset by the cost reductions for the proposed elimination of certificated facilities.

Northwest requests that the Commission issue the amended certificate order by September 15, 2003, so the proposed modifications for the Sumas Compressor Station can be completed by October 1, 2003.

Any questions concerning this application may be directed to Gary K. Kotter, Manager, Certificates and Tariffs-3C1, Northwest Pipeline Corporation, PO Box 58900, Salt Lake City, Utah 841580900, at (801) 584-7117 or fax (801) 584-7764.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Protests and interventions may be filed electronically via the internet in lieu of paper; see 18 CFR 385.2001(a)(1)(iii) and the instructions on the Commission's Web site under the “e-Filing” link. The Commission strongly encourages electronic filings.

Comment Date: August 8, 2003.

Magalie R. Salas,
Secretary.

[FR Doc. 03-19378 Filed 7-30-03; 8:45 am]

BILLING CODE 6717-01-P